DEPARTMENT OF VETERANS AFFAIRS

[OMB Control No. 2900-0569]

Agency Information Collection Activities Under OMB Review

AGENCY: Veterans Benefits Administration, Department of Veterans Affairs.

ACTION: Notice.

SUMMARY: In compliance with the Paperwork Reduction Act (PRA) of 1995 (44 U.S.C. 3501-20), this notice announces that the Veterans Benefits Administration (VBA), Department of Veterans Affairs, has submitted the collection of information abstracted below to the Office of Management and Budget (OMB) for review and comment. The PRA submission describes the nature of the information collection and its expected cost and burden and it includes the actual data collection instrument.

DATES: Comments must be submitted on or before December 12, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0569.”

Send comments and recommendations concerning any aspect of the information collection to VA's OMB Desk Officer, OMB Human Resources and Housing Branch, New Executive Office Building, Room 10235, Washington, DC 20503 (202) 395-7316. Please refer to “OMB Control No. 2900-0569” in any correspondence.

SUPPLEMENTARY INFORMATION: Title: VA Voluntary Customer Surveys to Implement E.O. 12862.

OMB Control Number: 2900-0569.

Type of Review: Extension of a currently approved collection.

Abstract: VBA administers integrated programs of benefits and services, established by law for veterans and their survivors, and service personnel. Executive Order 12862, Setting Customer Service Standards, requires Federal agencies and departments to identify and survey its customers to determine the kind and quality of services they want and their level of satisfaction with existing service. VBA uses customer satisfaction surveys to gauge customer perceptions of VA services as well as customer expectations and desires. The results of these information collections lead to improvements in the quality of VBA service delivery by helping to shape the direction and focus of specific programs and services.

An agency may not conduct or sponsor, and a person is not required to respond to a collection of information unless it displays a currently valid OMB control number. The Federal Register Notice with a 60-day comment period soliciting comments on this collection of information was published on September 2, 2003, at pages 52270-52272.

National Survey Activities
Year | Number of respondents | Estimated annual burden (hours) | Frequency of response
Survey of Veterans' Satisfaction with the VA Compensation and Pension Claims Process
2004 | 24,000 | 7,920 | One-time.
2005 | 24,000 | 7,920 | One-time.
2006 | 24,000 | 7,920 | One-time.
Survey of Veterans'/Dependents' and Servicemembers' Satisfaction with the VA Education Claims Process
2004 | 2,968 | 979 | One-time.
2005 | 2,968 | 979 | One-time.
2006 | 2,968 | 979 | One-time.
Survey of Educational Institution Certifying Officials
2005 | 1,000 | 330 | One-time.
2006 | 1,000 | 330 | One-time.
Survey of Veterans' Satisfaction with the VA Home Loan Guaranty Process
2004 | 7,560 | 1,262 | One-time.
2005 | 7,560 | 1,262 | One-time.
2006 | 7,560 | 1,262 | One-time.
VA Loan Guaranty Lender Satisfaction Survey
2004 | 1,992 | 498 | One-time.
2005 | 1,992 | 498 | One-time.
2006 | 1,992 | 498 | One-time.
VA Survey of Veterans' Satisfaction with the Vocational Rehabilitation & Employment Program
2004 | 3,300 | 1,089 | One-time.
2005 | 3,300 | 1,089 | One-time.
2006 | 3,300 | 1,089 | One-time.
Insurance Customer Surveys
2004 | 2,800 | 280 | One-time.
2005 | 2,800 | 280 | One-time.
2006 | 2,800 | 280 | One-time.
Undetermined Focus Groups (Targeted population groups are to be decided)
2004 | 500 | 1,000 | One-time.
2005 | 500 | 1,000 | One-time.
2006 | 500 | 1,000 | One-time.
Telephone Survey
2004 | 7,200 | 1,224 | One-time.
2005 | 7,200 | 1,224 | One-time.
2006 | 7,200 | 1,224 | One-time.
VA Regional Office-Based Survey Activities Customer Satisfaction Focus Groups
2004 | 600 | 1,800 | One-time.
2005 | 600 | 1,800 | One-time.
2006 | 600 | 1,800 | One-time.
VA Regional Office-Specific Service Improvement Initiatives (Comment Card)
2004 | 80,000 | 6,640 | One-time.
2005 | 80,000 | 6,640 | One-time.
2006 | 80,000 | 6,640 | One-time.

Most customer satisfaction surveys will be recurring so that VBA can create ongoing measures of performance and to determine how well the agency meets customer service standards. Each collection of information will consist of the minimum amount of information necessary to determine customer needs and to evaluate VBA's performance. VBA expects to conduct an estimated 100 focus groups and receive up to 80,000 comment cards involving a total of 6,640 hours each year for 2004, 2005, and 2006. In addition, VBA expects to distribute written surveys with a total annual burden of approximately 16,052 hours in 2004, 16,382 hours in 2005, and 16,382 hours in 2005. The grand totals for the focus groups, comment cards, and written surveys are 22,692 hours in 2004, 23,022 hours in 2005, and 23,022 hours in 2006.

Anyone may view the results of previously administered surveys on the internet by going to the following VBA surveys Web site: http://www.vba.va.gov/surveys/.

The areas of concern to VBA and its customers may change over time, and it is important to have the ability to evaluate customer concerns quickly. OMB will be requested to grant generic clearance approval for a 3-year period to conduct customer satisfaction surveys, focus groups and to send out comment cards. Participation in the surveys, focus groups, and comment cards will be voluntary and the generic clearance will not be used to collect information required to obtain or maintain eligibility for a VA program or benefit. In order to maximize the voluntary response rates, the information collection will be designed to make participation convenient, simple, and free of unnecessary barriers. Baseline data obtained through these information collections will be used to improve customer service standards. VBA will consult with OMB regarding each specific information collection during this approval period.

Dated: November 3, 2003.
By direction of the Secretary.
Jacqueline Parks,
IT Specialist, Records Management Service.

[FR Doc. 03-28365 Filed 11-12-03; 8:45 am]

BILLING CODE 8320-01-P